DEPARTMENT OF COMMERCE

National Institute of Standards and Technology

Applications for the Malcolm Baldrige National Quality Award

ACTION: Proposed collection; Comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A).

DATES: Written comments must be submitted on or before May 13, 2002.

ADDRESSES: Direct all written comments to Madeleine Clayton, Departmental Paperwork Clearance Officer, Department of Commerce, Room 6608, 14th and Constitution Avenue, NW, Washington, DC 20230 (or via the Internet at MClayton@doc.gov).

FOR FURTHER INFORMATION CONTACT: Requests for additional information or copies of the information collection instrument(s) and instructions should be directed to JoAnne M. Surette, Baldrige National Quality Program, Administration Building, Room 623, 100 Bureau Drive, Stop 1020, National Institute of Standards and Technology, Gaithersburg, MD 20899-1020, telephone (301) 975-5267, fax, (301)948-3716, e-mail joanne.surette@nist.gov.

SUPPLEMENTARY INFORMATION:

I. Abstract

The Department of Commerce is responsible for the Baldrige National Quality Program and the Malcolm Baldrige National Quality Award. NIST, an agency of the Department's Technology Administration, manages the Baldrige Program. Applicants for the Malcolm Baldrige National Quality Award are required to perform two steps: (1) The applicant organization certifies that it meets eligibility requirements; and (2) the applicant organization prepares and completes an application form and the application process. The Malcolm Baldrige National Quality Award Program Office will assist with or offer advice on any questions or issues that the applicant may have concerning the eligibility process or in completing the self-certification forms. NIST will use the application package to assess and provide feedback on the applicant's quality and performance practices.

II. Method of Collection

Applicants must comply in writing according to the Baldrige Award Application Forms booklet.

III. Data

OMB Number: 0693-0006.

Form Number: None.

Type of Review: Regular submission.

Affected Public: Business or other for profit organizations, and not-for-profit institutions.

Estimated Number of Respondents: 100.

Estimated Time Per Response: 100 hours.

Estimated Total Annual Burden Hours: 10,000 hours.

Estimated Total Annual Cost to the Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: March 7, 2002.
Gwellnar Banks,
Management Analyst, Office of the Chief Information Officer.

[FR Doc. 02-5898 Filed 3-11-02; 8:45 am]

BILLING CODE 3510-13-P